DEPARTMENT OF THE INTERIOR

Bureau of Land Management

[14XL LLIDB00100 LF1000000.HT0000 LXSS020D0000 241A 4500069722]

Notice of Intent To Prepare an Environmental Impact Statement for the Proposed Bruneau-Owyhee Sage-Grouse Habitat Project, Owyhee County, Idaho

AGENCY: Bureau of Land Management, Interior.

ACTION: Notice of intent.

SUMMARY: In compliance with the National Environmental Policy Act of 1969, as amended (NEPA), and the Federal Land Policy and Management Act of 1976, as amended, the Bureau of Land Management (BLM) Boise District, Boise, Idaho, intends to prepare an Environmental Impact Statement (EIS) and by this notice is announcing the beginning of the scoping process to solicit public comments to identify relevant issues.

DATES: This notice initiates the public scoping process for the EIS. Comments on issues may be submitted in writing until February 19, 2015. The date(s) and location(s) of any scoping meetings will be announced at least 15 days in advance through local media, newspapers and the BLM Web site, http://www.blm.gov/id. In order to be included in the draft EIS, all comments must be received prior to the close of the 30-day scoping period or 15 days after the last public meeting, whichever is later. There will be additional opportunities for public participation upon publication of the draft EIS.

ADDRESSES: You may submit comments related to the Bruneau Owyhee Sage-Grouse Habitat Project by any of the following methods:

• Web site: http://www.blm.gov/id/st/en/prog/nepa_register/BOSH-juniper-removal.html.

• email: blm_id_bruneauowyheesagegrouse@blm.gov.

• fax: 208-384-3326.

• mail: 3948 S. Development Avenue, Boise, ID 83705-5339.

Documents pertinent to this proposal may be examined at the Boise District Office at the above address.

FOR FURTHER INFORMATION CONTACT: Mike McGee, Wildlife Biologist, Boise District Fuels Management to have your name added to the mailing list, at telephone 208-384-3300; address 3948 S. Development Avenue, Boise, ID 83705-5339; email blm_id_bruneauowyheesagegrouse@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The project is a collaborative effort among Federal, State, and county governments as well as conservation organizations and the University of Idaho to improve and maintain functioning sage-grouse habitat in Owyhee County, Idaho. The proposal is to remove early-stage encroachment of western juniper (Juniperus occidentalis) from Greater Sage-Grouse (Centrocercus urophasianus) habitat across 1.5 million acres in the BLM Bruneau and Owyhee Field Offices. Treatment areas were selected based on the current distribution of sage-grouse and focused within a 10 kilometer radius of occupied sage-grouse leks. A lek is an area where sage-grouse gather each spring for mating and is considered breeding habitat.

Recent research suggests that sage-grouse populations incur negative impacts at a very low level of juniper encroachment, and that no leks remain active when conifer cover exceeds 4 percent. Within the proposed treatment area, thousands of acres of sage-grouse habitat are being encroached upon by western juniper. Removal of early-stage juniper encroachment would improve and maintain suitable sage-grouse habitat. Many acres within the project area do not meet the criteria for treatment, for example, areas where juniper is well established and areas where no juniper trees are present. Therefore, actual treatment acres would be considerably less than the 1.5 million acres identified as the project area.

Proposed treatments include cutting and lopping juniper, leaving the material on site, or cutting followed by jackpot burning. Jackpot burning—burning when the ground is saturated, frozen, or covered by snow—would be utilized in areas where scattering cut juniper is not feasible or desirable. Mastication of juniper using a track-hoe fitted with a grinding implement could also occur within 100 feet of existing roads. The BLM may use handsaws to implement treatment within designated wilderness or wilderness study areas, as determined through a minimum requirements analysis.

The purpose of public scoping is to determine relevant issues that will influence the scope of the environmental analysis, including alternatives, and to guide the process for developing the EIS. At present, the BLM has identified the following preliminary issues:

• Juniper slash near roads posing a threat to the public and firefighters during a wildfire,

• Introduction and spread of invasive and noxious vegetation,

• Impacts to raptor nests,

• Removal of old growth juniper,

• Disturbance to lekking, nesting or wintering sage-grouse during project implementation,

• Disturbance to migratory birds, and

• Effects of juniper management on wilderness characteristics.

Appropriate mitigation measures would be used to minimize impacts to sage-grouse habitat, old growth juniper, raptor nests, migratory birds, and wilderness characteristics. These mitigation measures would be identified in detail in the EIS and would primarily include physical avoidance and timing restrictions during implementation.

The BLM will use NEPA public participation requirements to assist the agency in satisfying the public involvement requirements under Section 106 of the National Historic Preservation Act (NHPA) (16 U.S.C. 470(f)) pursuant to 36 CFR 800.2(d)(3). Information about historic and cultural resources within the area potentially affected by the proposed sage-grouse habitat project will assist the BLM in identifying and evaluating impacts to such resources in the context of both NEPA and Section 106 of the NHPA.

The BLM will consult with Indian Tribes on a government-to-government basis in accordance with Executive Order 13175 and other policies. Tribal concerns, including impacts on Indian trust assets and potential impacts to cultural resources, will be given due consideration. Federal, State, and local agencies, that may be interested in or affected by the proposed sage-grouse habitat project may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

James M. Fincher,
BLM Boise District Manager.

[FR Doc. 2015-00741 Filed 1-16-15; 8:45 am]

BILLING CODE 4310-GG-P